ENVIRONMENTAL PROTECTION AGENCY

[MT-001-0021 and SD-001-0009; FRL-6871-6]

Availability of Reports on Progress Made Toward the National Visibility Goal in Montana and South Dakota

AGENCY: Environmental Protection Agency (EPA).

ACTION: Notice of availability.

SUMMARY: Federal regulations require states to develop a long-term strategy for achieving the National goal of preventing any future and remedying any existing manmade visibility impairment in mandatory Class I Federal areas. The long-term strategy must be periodically reviewed, and revised as appropriate, and a report must be provided to the public and the EPA Administrator. Since Montana and South Dakota never adopted long-term strategies, EPA incorporated a federal long-term strategy into their State Implementation Plans (SIPs) which commits EPA to periodically review the strategies and report its findings to the public. EPA has conducted the required reviews and is announcing the availability of the reports.

In Montana, visibility data were available for about half of the 12 mandatory Class I Federal areas. There were no clear visibility improvement or degradation trends at any of the areas for which data were available. Although optical data for Glacier National Park showed no trend through 1996, there was an apparent decline in visibility in 1997. Additional data are required to determine if 1997 marks the beginning of a trend or represents an anomaly.

In South Dakota, visibility data were available for the two mandatory Class I Federal areas. Long-term trends for Badlands National Park are difficult to determine due to inconsistencies in the data, however, some data indicate a slight degradation on the most-impaired days. Although the results of this review are inconclusive, there is a particular need to monitor trends closely in this park.

New visibility monitoring sites are planned for installation at several Montana mandatory Class I Federal areas in the near future and other new visibility monitoring sites already have been installed in the region of the South Dakota Class I areas. Data from these and other existing monitoring sites will be useful in evaluating visibility impairment in future long-term strategy reviews.

EFFECTIVE DATE: September 18, 2000.

ADDRESSES: The reports are available for public inspection during normal business hours at the Air and Radiation Program, Environmental Protection Agency, Region VIII, 999 18th Street, Suite 500, Denver, Colorado, 80202-2405. Interested persons should contact the person listed below to arrange a time to view these documents.

FOR FURTHER INFORMATION CONTACT: Amy Platt, Environmental Protection Agency, Region VIII, (303) 312-6449.

SUPPLEMENTARY INFORMATION: Section 169A of the Clean Air Act requires visibility protection for mandatory Class I Federal areas where visibility has been determined to be an important value. The National visibility goal set forth in Section 169A(a)(1) is to prevent any future and remedy any existing manmade visibility impairment in these mandatory Class I Federal areas.

The U.S. Environmental Protection Agency (EPA) promulgated regulations governing visibility on December 2, 1980 (codified in 40 CFR 51.300-51.307). These regulations include, among other things, requirements for states to revise their State Implementation Plans (SIPs) to ensure reasonable progress toward achieving the National visibility goal through the implementation of visibility monitoring, visibility new source review, and a long-term strategy (a 10-15 year plan for achieving the National visibility goal).

Neither Montana nor South Dakota adopted a visibility long-term strategy to meet the requirements of 40 CFR 51.306.

Therefore, on November 24, 1987 (see 52 FR 45132) EPA promulgated a new § 52.29 which incorporated a federal long-term strategy into the SIPs for Montana and South Dakota. This new section commits EPA to periodic reviews of the long-term strategy and reporting required by 40 CFR 51.306(c).

Under 40 CFR 52.29, EPA must conduct a periodic review, and revision if appropriate, of the long-term strategy. The resulting report on progress made toward the National visibility goal must be made available to the public. EPA has completed the review for Montana and South Dakota and is fulfilling the reporting requirements.

This notice today informs the public and identifies the appropriate

EPA regional office from which the public may gain further information and view the reports on progress made toward the National visibility goal in Montana and South Dakota.

Dated: September 12, 2000.
Carol M. Browner,
EPA Administrator.

[FR Doc. 00-23939 Filed 9-15-00; 8:45 am]

BILLING CODE 6560-50-U